ENVIRONMENTAL PROTECTION AGENCY

[FRL-9843-3; CERCLA-04-2013-3759]

Ore Knob Mine Superfund Site; Laurel Springs, Ashe County, North Carolina; Notice of Settlement

AGENCY: Environmental Protection Agency (EPA).

ACTION: Notice of Settlement.

SUMMARY: Under 122(h) of the Comprehensive Environmental Response, Compensation and Liability Act (CERCLA), the United States Environmental Protection Agency has entered into a settlement with Herbert N. Francis concerning the Ore Knob Mine Superfund Site located in Laurel Springs, Ashe County, North Carolina. The settlement addresses cost incurred by the agency in conducting a fund lead Removal.

DATES: The Agency will consider public comments on the settlement until September 4, 2013. The Agency will consider all comments received and may modify or withdraw its consent to the settlement if comments received disclose facts or considerations which indicate that the settlement is inappropriate, improper, or inadequate.

ADDRESSES: Copies of the settlement are available from EPA's Environmental Protection Specialist, Ms. Paula V. Painter. Submit your comments by site name “Ore Knob Mine Superfund Site” by one of the following methods:

• www.epa.gov/region4/superfund/programs/enforcement/enforcement.html.

• Email. Painter.Paula@epa.gov.

• U.S. Environmental Protection Agency, Attn: Paula V. Painter, Superfund Division, 61 Forsyth Street SW., Atlanta, Georgia 30303.

FOR FURTHER INFORMATION CONTACT: Paula V. Painter at 404/562-8887.

Dated: April 17, 2013.
Anita L. Davis,
Chief, Superfund Enforcement & Information Management Branch, Superfund Division.

[FR Doc. 2013-18871 Filed 8-2-13; 8:45 am]

BILLING CODE 6560-50-P